NUCLEAR REGULATORY COMMISSION

[NRC-2017-0126]

Superseded or Outdated Generic Communications

AGENCY: Nuclear Regulatory Commission.

ACTION: Generic communications; withdrawal.

SUMMARY: The U.S. Nuclear Regulatory Commission (NRC) is withdrawing the selected generic communications because their guidance no longer provides useful information, their guidance is superseded by updated guidance, or the information can be more effectively made available to interested stakeholders by other means.

DATES: The effective date of the withdrawals is June 13, 2017.

ADDRESSES: Please refer to Docket ID NRC-2017-0126 when contacting the NRC about the availability of information regarding this document. You may obtain publicly-available information related to this document using any of the following methods:

• Federal Rulemaking Web site: Go to http://www.regulations.gov and search for Docket ID NRC-2017-0126. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Erika A. Lee, Office of Nuclear Reactor Regulation, U.S. Nuclear Regulatory Commission, Washington, DC 20555-0001; telephone: 301-415-2065; email: Erika.Lee@nrc.gov.

SUPPLEMENTARY INFORMATION:

Discussion

A. General Information

The NRC performs periodic reviews of generic communications and withdraws them when they no longer provide useful information or are superseded by technological innovations or updated guidance. A withdrawal includes the original generic communication and any supplements or revisions. The NRC is currently publishing withdrawals of generic communications on a quarterly basis.

Withdrawal of the original generic communication and supplements, if applicable, will not affect the public's ability to obtain this information. The original generic communication and supplements will remain accessible through ADAMS and the NRC's generic communications Web site. The NRC's generic communications Web site will be updated to reflect the generic communications status as withdrawn. The generic communications Web site is accessible at https://www.nrc.gov/reading-rm/doc-collections/gen-comm/.

B. Withdrawals of Generic Communications

The following generic communications are withdrawn:

• Generic Letter (GL) 1978-35, “Regional Meetings to Discuss Upgraded Guard Qualifications,” August 25, 1978 (ADAMS Accession No. ML031280394).

The meeting dates of September 27, October 3, October 5, and October 11, 1978, referenced in this GL have passed.

• GL 1978-37, “Revised Meeting Schedule and Locations for Upgraded Guard Qualifications,” September 12, 1978 (ADAMS Accession No. ML031280398).

The meeting dates of September 27, October 3, October 5, and October 13, 1978, referenced in this GL have passed.

• GL 1995-08, Revision 1, “10 CFR 50.54(p) Process for Changes to Security Plans Without Prior NRC Approval,” April 16, 2014 (ADAMS Accession No. ML14055A356).

This GL was issued to withdraw the original GL 1995-08, dated October 31, 1995. Since the original GL has been withdrawn, there is no longer a need for this revision, and it is also withdrawn.

• Regulatory Issue Summary (RIS) 2013-16, “Interactions Between the NRC and NRC Stakeholders During a Lapse of Agency Appropriations,” October 1, 2013 (ADAMS Accession No. ML110550923).

This RIS was issued to inform addressees on how to communicate and interact with NRC during the Federal Government shutdown of 2013. Since the guidance only applied to the Federal Government shutdown of 2013, there is no longer a need for this RIS.

• RIS 2013-16, Supplement 1, “Interactions Between the NRC and NRC Stakeholders During a Lapse of Agency Appropriations,” October 9, 2013 (ADAMS Accession No. ML13273A190).

This supplement to RIS 2013-16 was issued to notify addressees that NRC appropriations no longer supported normal operations, and the NRC would be operating at a reduced level. Since the guidance only applied to the Federal Government shutdown of 2013, there is no longer a need for this RIS.

Dated at Rockville, Maryland, this 5th day of June 2017.
For the Nuclear Regulatory Commission.
Alexander D. Garmoe,
Chief (Acting), Generic Communications Branch, Division of Policy and Rulemaking, Office of Nuclear Reactor Regulation.

[FR Doc. 2017-12138 Filed 6-12-17; 8:45 am]

BILLING CODE 7590-01-P